DEPARTMENT OF COMMERCE

National Oceanic and Atmospheric Administration

RIN 0648-XG194

Gulf of Mexico Fishery Management Council; Public Meetings

AGENCY: National Marine Fisheries Service (NMFS), National Oceanic and Atmospheric Administration (NOAA), Commerce.

ACTION: Notice; public hearings and webinar.

SUMMARY: The Gulf of Mexico Fishery Management Council (Council) will hold eight public hearings and webinar to solicit public comments on Draft Amendment 9—Coral Habitat Areas Considered for Management in the Gulf of Mexico.

DATES: The public hearings will take place May 7-June 6, 2018. The meetings and webinar will begin at 6 p.m. and will conclude no later than 9 p.m. For specific dates and times, see SUPPLEMENTARY INFORMATION. Written public comments must be received on or before 5 p.m. EST on Tuesday, June 5, 2018.

ADDRESSES: The public documents can be obtained by contacting the Gulf of Mexico Fishery Management Council, 2203 N Lois Avenue, Suite 1100, Tampa, FL 33607; (813) 348-1630 or on their website at www.gulfcouncil.org.

Meeting addresses: The public hearings will be held in Key West and Madeira Beach, FL; Brownsville, Palacios and Clear Lake, TX; Mobile, AL, D'Iberville, MS and Grand Isle, LA. For specific locations, see SUPPLEMENTARY INFORMATION.

Public comments: Comments may be submitted online through the Council's public portal by visiting www.gulfcouncil.org and clicking on “CONTACT US”.

FOR FURTHER INFORMATION CONTACT: Dr. Morgan Kilgour, Fishery Biologist; morgan.kilgour@gulfcouncil.org, Gulf of Mexico Fishery Management Council; telephone: (813) 348-1630.

SUPPLEMENTARY INFORMATION: The agenda for the following eight hearings and webinar are as follows: Council staff will brief the public on the purpose and need of the amendment. The Council is currently considering creating several new habitat areas of particular concern in the Gulf of Mexico. Council staff will also provide an overview of the actions and alternatives considered in the amendment including the Council preferred alternatives.

Staff and a Council member will be available to answer any questions and the public will have the opportunity to provide testimony on the amendment and other related testimony.

The schedule is as follows:

Locations

Monday, May 7, 2018; Courtyard by Marriott Brownville, 3955 N. Expressway, Brownsville, TX 78520; telephone: (956) 350-4600.

Tuesday, May 8, 2018; Port of Palacios, 1602 Main Street, Palacios, TX 77465; telephone: (361) 972-5556.

Wednesday, May 9, 2018; Hampton Inn & Suites Houston/League City, 2320 Gulf Freeway South, League City, Texas, 77573; telephone: (281) 614-5437.

Tuesday, May 22, 2018, Webinar—6 p.m. EST at: https://attendee.gotowebinar.com/register/4248295616605995266.

After registering, you will receive a confirmation email containing information about joining the webinar.

Monday, June 4, 2018; Marriott Beachside, 3841 N. Roosevelt Boulevard, Key West, FL 33040; telephone: (305) 296-8100; Louisiana Department of Wildlife and Fisheries Laboratory, 195 Ludwig Annex, Grand Isle, LA 70358; (985) 787-2163.

Tuesday, June 5, 2018; Courtyard by Marriott Biloxi/North D 'Iberville, 11471 Cinema Drive, D 'Iberville, MS 39540; telephone: (228) 392-1200; Holiday Inn Express & Suites St. Petersburg—Seminole, 4816 100th Way North, St. Petersburg, FL, 33708; telephone: (727) 914-7107.

Wednesday, June 6, 2018; Renaissance Mobile Riverview Plaza Hotel, 64 South Water Street, Mobile, AL 36602; telephone: (251) 438-4000.

Special Accommodations

These meetings are physically accessible to people with disabilities. Requests for sign language interpretation or other auxiliary aids should be directed to Kathy Pereira (see ADDRESSES), at least 5 working days prior to the meeting date.

Authority: 16 U.S.C. 1801 et seq.

Dated: April 24, 2018.
Tracey L. Thompson,
Acting Deputy Director, Office of Sustainable Fisheries, National Marine Fisheries Service.

[FR Doc. 2018-08925 Filed 4-26-18; 8:45 am]

BILLING CODE 3510-22-P